NATIONAL CREDIT UNION ADMINISTRATION

Community Development Revolving Loan Fund for Credit Unions

AGENCY: National Credit Union Administration.

ACTION: Notice of application period.

SUMMARY: The National Credit Union Administration (NCUA) will accept applications for participation in the Community Development Revolving Loan Fund's [Fund's] Loan Program beginning in June 2010, subject to availability of funds. The Fund's total appropriation for loans is $13.4 million.

Applications and procedures for the 2010 Fund Loan Program will be posted to the NCUA Web site.

ADDRESSES: Applications for participation may also be obtained from and should be submitted to: NCUA, Office of Small Credit Union Initiatives, 1775 Duke Street, Alexandria, VA 22314-3428.

DATES: Applications can be submitted starting on June 11, 2010 and closing when funding is exhausted.

FOR FURTHER INFORMATION CONTACT: Tawana James, Director, Office of Small Credit Union Initiatives at the above address or telephone (703) 518-6610.

SUPPLEMENTARY INFORMATION: Part 705 of the NCUA Rules and Regulations implements the Community Development Revolving Loan Fund (Fund) for Credit Unions. The purpose of the Fund is to assist officially designated “low-income” credit unions in providing basic financial services to residents in their communities that result in increased income, home ownership, and employment. The Fund makes available low interest loans in the aggregate amount of $300,000 to qualified participating “low-income” designated credit unions. Interest rates are currently set at 1 percent, subject to change depending on market interest rates.

Fund participation is limited to existing credit unions with an official “low-income” designation.

This notice is published pursuant to Section 705.9 of the NCUA Rules and Regulations that states NCUA will provide notice in the Federal Register when funds in the program are available.

By the National Credit Union Administration Board on June 9, 2010.
Mary F. Rupp,
Secretary, NCUA Board.

[FR Doc. 2010-14652 Filed 6-16-10; 8:45 am]

BILLING CODE 7535-01-P